DEPARTMENT OF HEALTH AND HUMAN SERVICES

Centers for Medicare & Medicaid Services

Notice of Grant Award to American Academy of Family Physicians for Phase One of an Open Source EHR Pilot Project Entitled “Making the Transition From Paper to Electronics in Office-Based Medical Practices”

AGENCY: Centers for Medicare & Medicaid Services (CMS), DHHS.

ACTION: Notice of grant award.

SUMMARY: The Centers for Medicare & Medicaid Services has awarded a grant entitled “Open source EHR Pilot Project, Phase One: Making the Transition from Paper to Electronics in Office-Based Medical Practices” to the American Academy of Family Physicians (AAFP), 11400 Tomahawk Creek Parkway, Leawood, KS 66211-2672, in response to an unsolicited application. The AAFP proposes that it will provide a comprehensive, low-cost, standardized, secure, and open source electronic health record (EHR) to the health care community. As a national academy, the AAFP is inherently familiar with the resources required and the necessary questions to be asked in order to make this a viable project, particularly on a national scale. The total amount of the award is $100,000 for the period June 1, 2004, through November 30, 2004. This project is an opportunity for CMS to further its objective of providing Medicare/Medicaid beneficiaries with information to make better choices. It will investigate the use of Open Source EHR as a tool for improving quality of care for selected patient populations, e.g., diabetes and asthma, through routine collection of quality indicator and performance data and the delivery of evidenced-based guidelines and plans of care at the time of EHR use. This project is consistent with CMS’ goal to improve health care quality and consumer decision-making in health care. Funding of this unsolicited proposal will result in a desirable public benefit in that its aim is to provide improvements in quality and safety of care delivery.

FOR FURTHER INFORMATION CONTACT: Albert G. Deal, Office of Research, Development, and Information, Centers for Medicare & Medicaid Services, C3-24-07, 7500 Security Boulevard, Baltimore, MD 21244-1850, (410) 786-6645, or Judy Norris, Grants Officer, Department of Health and Human Services, OOM/AGG/CMS, C2-21-15, 7500 Security Boulevard, Baltimore, MD 21244-1850, (410) 786-5130.

(Catalog of Federal Domestic Assistance Program No. 93.779, Centers for Medicare & Medicaid Services, Research, Demonstrations and Evaluations)

Authority: Section 1110 of the Social Security Act.

Dated: May 18, 2004.
Mark B. McClellan,
Administrator, Centers for Medicare & Medicaid Services.

[FR Doc. 04-12275 Filed 5-27-04; 8:45 am]

BILLING CODE 4120-01-P